DEPARTMENT OF COMMERCE

Bureau of Economic Analysis

[190605488948801]

RIN 0691-XC101

Request for Comment; Notice of Development of Gross Domestic Product by County Statistics

AGENCY: Bureau of Economic Analysis, Department of Commerce.

ACTION: Notice; request for comments.

SUMMARY: The Bureau of Economic Analysis (BEA) is soliciting comments from the public on its new prototype Gross Domestic Product by County statistics, including comments on the methodology, presentation, granularity, and scope. Following the public comment period, BEA will incorporate feedback, finalize the methodology and related materials, and begin publishing this data series as an official series annually. Gross Domestic Product by County statistics will provide information on the economic activity generated in each of the nation's counties or county equivalents.

DATES: Comments must be received no later than July 29, 2019.

ADDRESSES: You may submit comments via email to gdpbycounty@bea.gov or via U.S. Mail addressed to Mauricio Ortiz, Chief, Regional Income Division, Bureau of Economic Analysis, Department of Commerce, 4600 Silver Hill Road (BE-55), Washington, DC 20233. Comments sent by any other method or after the comment period may not be considered. All comments are a part of the public record.

FOR FURTHER INFORMATION CONTACT: Mauricio Ortiz, Chief, Regional Income Division, Bureau of Economic Analysis, Department of Commerce, 4600 Silver Hill Road (BE-55), Washington, DC 20233; phone: (301) 278-9269 or via email to Mauricio.Ortiz@bea.gov.

SUPPLEMENTARY INFORMATION: Statistics measuring county gross domestic product (GDP)—the value of goods and services produced there—will help create a more complete picture of the geographic distribution of U.S. economic activity. The information will help policymakers and regional planners promote local economic growth and direct resources to the places most in need. The statistics will be a new tool to help businesses make decisions about investment and growth and to help residents better understand their county's economic health. The data can be used to compare the size and growth (or decline) of local economies across the country.

In July 2016, BEA released a paper, laying out a research agenda to produce GDP statistics for each of the nation's 3,113 counties or county equivalents, such as Louisiana's parishes and Alaska's boroughs. Building on that research, in December 2018 BEA released a prototype set of county GDP statistics measuring the economic performance of counties or county equivalents, covering the years 2012 through 2015. A paper published in the March 2019 issue of BEA's Survey of Current Business detailed the data sources and methods used to calculate the GDP by county prototype statistics.

BEA is seeking feedback on the prototype statistics and will continue to refine its methodology and presentations before official county GDP statistics are slated to be released in December 2019.

BEA invites comments from the public, private industry, state and local governments, non-profit organizations, and other interested parties to assist in improving the prototype statistics' quality, reliability, and usefulness. In particular, BEA is interested in feedback regarding the following:

1. How do you plan to use county GDP statistics?

2. Would an annual publication in December meet your needs? If not, what time of the year would be most valuable to inform planning and other uses?

3. Are the prototype estimates consistent with the data and local information that you have on specific counties? If not, please outline the differences.

4. Do you have any feedback about the methodology used to create the prototype county GDP statistics described in the March 2019 issue of BEA's online Survey of Current Business (available at bea.gov)?

5. Are there additional source data that you believe could be used to generate and corroborate these statistics beyond those described in the March 2019 article?

6. Which would better meet your needs:

Less-detailed industry breakdowns, which will result in fewer data suppressions to protect confidentiality or more-detailed industry breakdowns, with the necessary suppressions?

Dated: June 4, 2019.
Mauricio Ortiz,
Chief, Regional Income Division, Bureau of Economic Analysis.

[FR Doc. 2019-13858 Filed 6-27-19; 8:45 am]

BILLING CODE P